DEPARTMENT OF ENERGY

Federal Energy Regulatory Commission

Combined Notice of Filings #1

Take notice that the Commission received the following electric rate filings:

Docket Numbers: ER11-4633-003.

Applicants: Madison Gas & Electric Company.

Description: Supplement to June 29, 2015 Triennial Market Based Rate filing of Madison Gas & Electric Company.

Filed Date: 11/16/15.

Accession Number: 20151116-5269.

Comments Due: 5 p.m. ET 12/7/15.

Docket Numbers: ER16-89-002.

Applicants: Jether Energy Research, LTD.

Description: Tariff Amendment: 2nd Amended MBR Application to be effective 12/14/2015.

Filed Date: 11/16/15.

Accession Number: 20151116-5210.

Comments Due: 5 p.m. ET 12/7/15.

Docket Numbers: ER16-336-000.

Applicants: Pure Energy, Inc.

Description: Compliance filing: Pure Energy eTariff Filing to be effective 11/17/2015.

Filed Date: 11/17/15.

Accession Number: 20151117-5071.

Comments Due: 5 p.m. ET 12/8/15.

Take notice that the Commission received the following electric reliability filings:

Docket Numbers: RR15-11-001.

Applicants: North American Electric Reliability Corporation.

Description: Compliance Filing of the North American Electric Reliability Corporation and Request for Approval of Amended Compliance and Certification Committee Charter.

Filed Date: 11/17/15.

Accession Number: 20151117-5054.

Comments Due: 5 p.m. ET 12/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2015.
Nathaniel J. Davis, Sr.,
Deputy Secretary.

[FR Doc. 2015-29751 Filed 11-20-15; 8:45 am]

BILLING CODE 6717-01-P